INTERNATIONAL BOUNDARY AND WATER COMMISSION, UNITED STATES AND MEXICO

Availability of the Final Environmental Assessment and Finding of No Significant Impact for Environmental Assessment for Non-native Plant Control and Re-establishment of Riparian Habitats Along the Rio Grande in Seldon Canyon, Doña Ana County, NM

AGENCY: United States Section, International Boundary and Water Commission, United States and Mexico.

ACTION: Notice of Availability of the Final Environmental Assessment (EA) and Finding of No Significant Impact (FONSI).

SUMMARY: Pursuant to Section 102(2)(c) of the National Environmental Policy Act of 1969; the Council on Environmental Quality Final Regulations (40 CFR parts 1500 through 1508); and the United States Section, Operational Procedures for Implementing Section 102 of NEPA, published in the Federal Register September 2, 1981, (46 FR 44083); the United States Section hereby gives notice that the Final Environmental Assessment and Finding of No Significant Impact for Non-native Plant Control and Re-establishment of Riparian Habitats Along the Rio Grande on U.S. International Boundary and Water Commission and Bureau of Land Management Lands are available. A notice of finding of no significant impact dated January 24, 2012, provided a thirty (30) day comment period before making the finding final. The Notice was published in the Federal Register on January 24, 2012 (Federal Register Notice, Vol. 77, No. 15, Page 3497).

FOR FURTHER INFORMATION CONTACT: Gilbert Anaya, Division Chief, Environmental Management Division; United States Section, International Boundary and Water Commission; 4171 N. Mesa, C-100; El Paso, Texas 79902. Telephone: (915) 832-4702, email: Gilbert.Anaya@ibwc.gov.

BACKGROUND: This proposed project will be part of a regional initiative to restore the form and function of the Rio Grande floodplain that has been undertaken by other Federal, State, and non government organizations. The overarching goals of the project are to improve the ecosystem integrity within the project area by shifting conditions to match those that historically existed. This project will focus on restoring 31.35 acres divided between two tracts of federal lands (25.85 ac USIBWC and 5.5 ac BLM) from saltcedar to native riparian habitats by utilizing validated mechanical and chemical control methods to remove and control saltcedar.

Availability: Electronic copies of the Final EA and FONSI are available from the USIBWC Web site at: http://www.ibwc.gov/Organization/Environmental/reports_studies.html.

Dated: August 3, 2012.
Steven Fitten,
General Counsel.

U.S. INTERNATIONAL BOUNDARY AND WATER COMMISSION EL PASO FIELD OFFICE TEXAS

FINDING OF NO SIGNIFICANT IMPACT

NON-NATIVE PLANT CONTROL AND RE-ESTABLISHMENT OF RIPARIAN HABITATS ALONG THE RIO GRANDE

LEAD AGENCY

United States Section, International Boundary and Water Commission, United States and Mexico (USIBWC).

PROPOSED ACTION

The United States Section, International Boundary and Water Commission (USIBWC) proposes to remove the non-native salt cedar (Tamarix chinensis) on a 25.85 acre parcel of USIBWC land along the Rio Grande in Selden Canyon. The proposed action will include mechanical removal of salt cedar and follow-up treatments using herbicide.

Two alternatives were discussed in an environmental assessment made available to the public during the formal public review period initiated on January 19, 2012:

1. Mechanical Removal of salt cedar with follow-up herbicide treatments, prescribed burning of debris and native plant restoration. (Preferred Alternative).

2. No Action would be taken to control non-native salt cedar and no restoration of native plant species would occur.

PUBLIC INVOLVEMENT

On January 19, 2012 the Draft Environmental Assessment for removing salt cedar on the IBWC tract known as Broad Canyon Arroyo was released for public review by the USIBWC. Notice of this document was published in the Federal Register and made available on the USIBWC Web site: www.ibwc.gov/Organization/Environmental/EIS_EA_Public_Comment.html.

An electronic copy of the draft EA was also made available through the San Andres NWR Web site at: http://www.fws.gov/southwest/refuges/newmex/sanandres/index.html.

Public review of the draft EA was completed following a 30 day review period.

SUMMARY OF FINDINGS

Pursuant to National Environmental Policy Act (NEPA) guidance (40 Code of Federal Regulations 1500-1508), The President's Council on Environmental Quality issued regulations for NEPA implementation which included provisions for both the content and procedural aspects of the required Environmental Assessment (EA) the USIBWC has prepared the draft EA.

A careful review of the draft EA indicates that there will not be a significant impact on the quality of the human environment as a result of this proposal. This determination is based on the following factors:

1. The proposed action will occur in a localized area belonging to the International Boundary and Water Commission and will be of short duration during part of the year. The proposed activities are not national or regional in scope.

2. The proposed action will not significantly affect public health or safety. The methods used are limited in scope, monitored by San Andres National Wildlife Refuge staff and occur in areas with no public access.

3. The proposed action will not significantly impact unique characteristics of the geographic area such as historical or cultural resources, park lands, prime farmlands, wetlands, wild and scenic rivers, or ecologically critical areas. The proposed action will impact the abundance of the non-native salt cedar on less than 26 acres.

4. The effects of the proposed action are not considered highly controversial. The use of mechanical extraction and follow-up herbicide treatments as a management tool to reduce an exotic species is accepted among wildlife experts.

5. The possible effects of the proposed action are not highly uncertain and do not involve unique or unknown risks.

6. The proposed action does not establish a precedent for actions with future significant effects or represent a decision in principle about a future consideration.

7. There are no significant cumulative effects identified by the EA. Mechanical extraction of salt cedar will be limited in scope and time, will be coordinated with other management agencies, and will stay within management objectives.

8. The proposed action will not affect districts, sites, highways, structures, or objects listed in or eligible for listing in the National Register of Historic Places, nor will it cause a loss or destruction of significant scientific, cultural, or historic resources. The fieldwork conducted under the proposed action does not constitute an undertaking as defined by the National Historic Preservation Act.

9. The proposed action will fully comply with the Endangered Species Act of 1973, as amended. The proposed action would not affect non-target federally or state listed threatened and endangered species. The proposed action will likely benefit native wildlife populations, particularly neotropical migrant birds by replacing a monotypic stand of non-native salt cedar with a diverse native plant community.

10. The proposed action will result in the irretrievable loss of some individual salt cedar. The proposed action will reduce the amount of salt cedar on a small parcel in an area that is made up of salt cedar along the river for miles in either direction. Impacts to the statewide population of salt cedar are determined to be insignificant.

11. The proposed action will not have any significant adverse effects on wetlands and floodplains, pursuant to Executive Orders 11990 and 11988 because the study area is not located within any wetlands and the amount of floodplain affected is minimal.

12. The proposed action will not threaten a violation of Federal, State, or local law or requirement imposed for the protection of the environment. The proposed action will be conducted consistent with any and all requisite approvals or authorizations of the cooperating agencies.

On the basis of the information contained in the environmental assessment, it is the determination of the USIBWC that the proposed action does not constitute a major Federal action significantly affecting the quality of the human environment under the meaning of Section 102 (2) (c) of the National Environmental Policy Act of 1969, as amended. Accordingly, requirements of the National Environmental Policy Act and regulations promulgated by the Council on Environmental Quality are fulfilled and an environmental impact statement is not required.

Edward Drusina

Commissioner

International Boundary and Water Commission, United States Section

Date: August 8, 2012

[FR Doc. 2012-20016 Filed 8-15-12; 8:45 am]

BILLING CODE 7010-01-P